DEPARTMENT OF THE INTERIOR

Bureau of Land Management

[CA-180-1220 PA]

Notice of a Pilot Study Based on a Scoping Paper To Determine the Feasibility of Commercial Kayak Instruction on the Mokelumne River in Amador and Calaveras County, CA

AGENCY: Bureau of Land Management, Interior.

ACTION: Notice.

SUMMARY: Notice is hereby given that the Bureau of Land Management (BLM), Folsom Field Office is considering a study to determine the feasibility of providing commercial Kayak instruction opportunities on the Mokelumne River, between the Electra powerhouse and the East Bay Municipal Utility District's Take-out facility.

DATES: The study will take place between June 1, 2004 and September 30, 2007.

ADDRESSES: Bureau of Land Management, Folsom Field Office, 63 Natoma Street, Folsom, California, 95630. Phone: (916) 985-4474.

FOR FURTHER INFORMATION CONTACT: Deane Swickard, Folsom Field Office Manager, 63 Natoma Street, Folsom, California 95630, telephone (916) 985-4474.

SUPPLEMENTARY INFORMATION: A pilot study is needed to determine what level, if any, of commercial activity will satisfy the public's needs and still be commensurate with maintaining resource values on this reach of river.

The study will begin in June of 2004, and could last up to three years. Upon completion of the study, the BLM, Folsom Field Office will prepare an environmental analysis to analyze the various alternatives.

The scoping paper that was developed by the BLM identified the critical issues and concerns, and provides the direction of the pilot study. A copy of this scoping paper may be obtained from the BLM, Folsom Field Office at the address listed above.

The following outfitter has been accepted by the BLM to conduct the pilot study: Current Adventures, P.O. Box 828, Lotus, CA 95651.

The BLM will issue a permit for this study.

The authority for this study can be found under section 303(a) of the Federal Land Policy and Management Act of 1976 (43 CFR 8372.0-3).

Dated: May 5, 2004.
Deane Swickard,
Folsom Field Office Manager.

[FR Doc. 04-13320 Filed 6-10-04; 8:45 am]

BILLING CODE 4310-40-P